DEPARTMENT OF JUSTICE

Notice of Lodging of Proposed Third Modification to Consent Decree Under the Clean Air Act

On July 19, 2017, the United States lodged a proposed Third Modification to the Consent Decree (“Third Modification”) with the United States District Court for the Western District of Pennsylvania in the lawsuit entitled United States, et al. v. Essroc Cement Corp., Civil No. 2:11-cv-01650.

The Court approved the original Consent Decree in 2012, resolving claims under the Clean Air Act against six Essroc cement facilities in three states and Puerto Rico. The proposed Third Modification affects only Defendant's Logansport facility in Logansport, Indiana. The proposed Third Modification reworks requirements for controlling emissions of nitrogen oxides, known as NOX, at Logansport. Under the proposed agreement, Essroc will no longer be required to install a NOX control technology known as SNCR (which stands for selective non-catalytic reduction) at Logansport Kiln 2. Instead, Essroc will be required to install water injection technology, another NOX control technology, at both Logansport kilns. In addition, the proposed agreement reduces the allowable NOX emissions rate at both kilns. Finally, the proposed Third Modification notes that Essroc is now known as Lehigh Hanson ECC.

The publication of this notice opens a period for public comment on the Third Modification. Comments should be addressed to the Assistant Attorney General, Environment and Natural Resources Division, and should refer to United States v. Essroc Cement Corp., D.J. Ref. No. 90-5-2-1-09608. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Third Modification may be examined and downloaded at this Justice Department Web site: https://www.justice.gov/enrd/consent-decrees. We will provide a paper copy of the Third Modification to Consent Decree upon written request and payment of reproduction costs. Please mail your request and payment to: Consent Decree Library, U.S. DOJ—ENRD, P.O. Box 7611, Washington, DC 20044-7611.

Please enclose a check or money order for $3.25 (25 cents per page reproduction cost) payable to the United States Treasury. For a complete copy of the original Consent Decree, the prior approved modification, and the proposed Third Modification (without exhibits and signature pages), the cost is $20.00.

Randall M. Stone,
Acting Assistant Section Chief, Environmental Enforcement Section, Environment and Natural Resources Division.

[FR Doc. 2017-15541 Filed 7-24-17; 8:45 am]

BILLING CODE 4410-15-P